DEPARTMENT OF THE INTERIOR

National Park Service

Denali National Park and Preserve; Subsistence Resource Commission Meeting

AGENCY: National Park Service, Interior.

ACTION: Announcement of Subsistence Resource Commission meeting.

SUMMARY: The Superintendent of Denali National Park and Preserve and the Chairperson of the Denali Subsistence Resource Commission announce a forthcoming meeting of the Subsistence Resource Commission for Denali National Park and Preserve. The following agenda items will be discussed:

(1) Call to order by Chair.

(2) Roll call and confirmation of quorum.

(3) Welcome and introductions.

(4) Approval of minutes of last meeting.

(5) Additions and corrections to agenda.

(6) Business:

a. Election of officers and administrative matters.

b. Updates on Alaska Board of Game and Board of Fish actions.

c. Updates on Federal Subsistence Management Program.

d. Proposed Federal Subsistence Wildlife Regulations for 2001-2002.

e. Proposed Federal Subsistence Fisheries Projects for 2001-2002.

f. NPS reports and updates.

g. SRC Chairs recommendations from 2000 meeting.

(7) Public and other agency comments.

(8) Set time and place of next SRC meeting.

(9) Adjournment.

DATES: The meeting will begin at 9 a.m. on Monday, March 5, 2001, and conclude at approximately 5 p.m.

Location: North Star Inn, Healy, Alaska.

FOR FURTHER INFORMATION CONTACT: Hollis Twitchell, Subsistence and Cultural Branch, P.O. Box 9, Denali Park, Alaska 99755. Phone (907) 683-9544 or (907) 456-0595.

SUPPLEMENTARY INFORMATION: The Subsistence Resource Commission is authorized under Title VIII, Section 808, of the Alaska National Interest Lands Conservation Act, Pub, L. 96-487, and operates in accordance with the provisions of the Federal Advisory Committee Act.

Paul Anderson,
Deputy Regional Director.

[FR Doc. 01-4077 Filed 2-16-01; 8:45 am]

BILLING CODE 4310-70-P